DEPARTMENT OF ENERGY

Federal Energy Regulatory Commission

[Project No. 14514-002]

Community of Elfin Cove, DBA Elfin Cove Utility Commission; Notice of Successive Preliminary Permit Application Accepted for Filing and Soliciting Comments, Motions To Intervene, and Competing Applications

On July 1, 2016, the Community of Elfin Cove, DBA Elfin Cove Utility Commission (Elfin Cove) filed an application for a successive preliminary permit, pursuant to section 4(f) of the Federal Power Act (FPA), to study the feasibility of the proposed Crooked Creek and Jim's Lake Hydroelectric Project (project) to be located on Crooked Creek and Jim's Lake, 70 miles west of Juneau, in the unincorporated Sitka Recording District, Alaska. The sole purpose of a preliminary permit, if issued, is to grant the permit holder priority to file a license application during the permit term. A preliminary permit does not authorize the permit holder to perform any land-disturbing activities or otherwise enter upon lands or waters owned by others without the owners' express permission.

The proposed project would consist of two developments, the Upper System and the Lower System.

The Upper System would consist of: (1) A 20-foot-long, 4-foot-wide, 4-foot-tall diversion structure to divert up to 5 cubic feet per second (cfs) from Crooked Creek; (2) a 1,200-foot-long, 1-foot-diameter buried penstock; (3) a 20-foot-long, 20-foot-wide powerhouse containing a 35-kilowatt (kW) crossflow turbine/generator; (4) a 50-foot-long, 8-foot-wide, 3-foot-deep cobble-lined tailrace discharging flows into Jim's Lake; and (5) appurtenant facilities.

The Lower System would consist of: (1) A 220-foot-long, 20-foot-high rock-fill embankment dam and intake at the outlet to Jim's Lake; (2) a 2,050-foot-long, 1.2-foot-diameter buried penstock; (3) a 24-foot-long, 24-foot-wide powerhouse containing a 105-kW Pelton turbine/generator; (4) a 150-foot-long, 8-foot-wide, 3-foot-deep cobble-lined tailrace discharging flows into Port Althorp; and (5) appurtenant facilities.

The 300-foot-long, 7.2/12.47 kV buried transmission line from the upper powerhouse would converge with the 2,800-foot-long, 7.2/12.47 kV buried transmission line from the lower powerhouse into a single 8,400-foot-long, 7.2/12.47 kV buried transmission line extending to Elfin Cove's existing 7.2/12.47-kV distribution network.

The estimated annual generation of the project would be 655.5 megawatt-hours. The project would be partially located on 60 acres of federal lands managed by the U.S. Forest Service in the Tongass National Forest.

Applicant Contact: Joel Groves, Polarconsult Alaska, Inc., 1503 West 33rd Avenue, Number 310, Anchorage, AK 99503; phone: (907) 258-2420 x204.

FERC Contact: Sean O'Neill; phone: (202) 502-6462.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14514-002.

More information about this project, including a copy of the application, can be viewed or printed on the “eLibrary” link of the Commission's Web site at http://www.ferc.gov/docs-filing/elibrary.asp. Enter the docket number (P-14514) in the docket number field to access the document. For assistance, contact FERC Online Support.

Dated: July 14, 2016.
Kimberly D. Bose,
Secretary.

[FR Doc. 2016-17125 Filed 7-19-16; 8:45 am]

BILLING CODE 6717-01-P